DEPARTMENT OF ENERGY

Federal Energy Regulatory Commission

[Project No. 1267-080]

Greenwood County, South Carolina; Notice of Application and Soliciting Comments, Motions To Intervene, and Protests

June 27, 2007.

a. Type of Application: Application to amend article 407 of the project license.

b. Project Number: Project No. 1267-080.

c. Date Filed: May 22, 2007.

d. Applicant: Greenwood County, South Carolina.

e. Name of Project: Buzzard's Roost Hydroelectric Project (FERC No. 1267).

f. Location: The project is located on the Saluda River in Greenwood, Laurens and Newberry Counties, South Carolina.

g. Filed Pursuant to: Federal Power Act, 16 U.S.C. 791 (a) 825(r) and 799 and 801.

h. Applicant Contact: Mr. Charles M. Watson Jr., County Attorney, County of Greenwood, 600 Monument St., Suite 102, Greenwood, SC 29646, phone (864)-942-3140.

i. FERC Contact: Any questions on this notice should be addressed to Chris Yeakel at (202) 502-8132.

j. Deadline for filing comments and or motions: July 27, 2007.

k. Description of Application: The applicant seeks approval to amend article 407 of its project license to revise the schedule for management of lake levels (rule curve). The licensee proposes to commence filling the lake one month earlier in order to obtain a lake elevation of 439 feet by March 15, provide steady lake levels during fish spawning, and to maintain the lake at the summer level until November 1 in order to facilitate late-season recreation. The licensee also proposes to maintain the lake at its annual low from December 15 until January 1 of each year in order to provide a period for adjacent landowners to work on permitted encroachments. Additionally, with the exception of the fish spawning period from March 15 to June 30, the licensee requests that it be allowed to fluctuate the reservoir within 6 inches above and below the levels determined by the rule curve to provide for some peaking operation. The licensee states that it will vary from article 407 to perform necessary maintenances, safely manage flood flows, during operating emergencies, and to meet minimum flow requirements under article 408.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field (p-1267) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (p-1267-080). All documents (original and eight copies) should be filed with: Kimberly D. Bose, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-12933 Filed 7-3-07; 8:45 am]

BILLING CODE 6717-01-P